SECURITIES AND EXCHANGE COMMISSION

Sunshine Act Meetings

FEDERAL REGISTER CITATION OF PREVIOUS ANNOUNCEMENT: 87 FR 26251, May 3, 2022.

PREVIOUSLY ANNOUNCED TIME AND DATE OF THE MEETING: Thursday, May 5, 2022 at 2:00 p.m.

CHANGES IN THE MEETING: The Closed Meeting scheduled for Thursday, May 5, 2022 at 2:00 p.m., has been cancelled.

CONTACT PERSON FOR MORE INFORMATION: For further information; please contact Vanessa A. Countryman from the Office of the Secretary at (202) 551-5400.

(Authority: 5 U.S.C. 552b.)

Dated: May 5, 2022.
Vanessa A. Countryman,
Secretary.

[FR Doc. 2022-10020 Filed 5-5-22; 4:15 pm]

BILLING CODE 8011-01-P